FEDERAL COMMUNICATIONS COMMISSION

47 CFR Parts 1 and 27

[WT Docket No. 12-357; FCC 13-88]

Service Rules for the Advanced Wireless Services H Block—Implementing Section 6401 of the Middle Class Tax Relief and Job Creation Act of 2012 Related to the 1915-1920 MHz and 1995-2000 MHz Bands

AGENCY: Federal Communications Commission.

ACTION: Final rule; correction.

SUMMARY: The Commission published a document in the Federal Register of January 17, 2014, announcing that the Office of Management and Budget (OMB) has approved, for a period of three years, the information collection associated with the Commission's Report and Order (R&O), §§ 1.946, 27.10, 27.12, and 27.17, Service Rules for the Advanced Wireless Services H Block—Implementing Section 6401 of the Middle Class Tax Relief and Job Creation Act of 2012 related to the 1915-1920 MHz and 1995-2000 MHz Bands. Additionally, the Commission announced that OMB approved, for a period of three years, the revisions to the existing collection on FCC Form 601, which are also associated with the Commission's R&O, and that those revisions are also effective with publication of this document. This document corrects the erroneously listing of the subsections of two rules that were approved by OMB.

DATES: Effective February 19, 2014.

FOR FURTHER INFORMATION CONTACT: Matthew Pearl, Wireless Telecommunications Bureau, Broadband Division, at (202) 418-BITS or by email at Matthew.Pearl@fcc.gov.

SUPPLEMENTARY INFORMATION: This rule published January 17, 2014, erroneously listed the subsections of two rules that were approved by OMB: on pages 3133 (column 2, line 17; column 3, lines 38-39) and 3134 (column 1, line 26; column 1, line 32), the document listed rules “§§ 1.946(d), 27.10(d),” when it should have listed merely “§§ 1.946, 27.10.”

Correction

In the Federal Register of January 17, 2014, in FR Doc. 2014-01055:

1. On page 3133, in the second column, on line 17, correct “§§ 1.946(d), 27.10(d)” to read: “§§ 1.946, 27.10”.

2. On page 3133, in the third column, on lines 38-39, correct “§§ 1.946(d), 27.10(d)” to read: “§§ 1.946, 27.10”.

3. On page 3134, in the first column, on line 26, correct “§§ 1.946(d), 27.10(d)” to read: “§§ 1.946, 27.10”.

4. On page 3134, in the first column, on line 32, correct “§§ 1.946(d), 27.10(d)” to read: “§§ 1.946, 27.10”.

Federal Communications Commission.
Sheryl D. Todd,
Deputy Secretary.

[FR Doc. 2014-03476 Filed 2-18-14; 8:45 am]

BILLING CODE 6712-01-P